DEPARTMENT OF TRANSPORTATION

Federal Aviation Administration

Availability of Record of Decision for the Environmental Impact Statement, Los Angeles International Airport, Los Angeles, Los Angeles County, CA

AGENCY: Federal Aviation Administration, DOT.

ACTION: Notice of availability for record of decision.

SUMMARY: The Federal Aviation Administration (FAA) is issuing this notice to advise the public that it has published a Record of Decision (ROD) for the Environmental Impact Statement (EIS) that evaluated proposed Master Plan improvements at Los Angeles International Airport (LAX), Los Angeles, Los Angeles County, California.

FOR FURTHER INFORMATION CONTACT: David B. Kessler, AICP, Regional Environmental Protection Specialist, AWP-611, Airports Division, Federal Aviation Administration, Western-Pacific Region, P.O. Box 92007, Los Angeles, California 90009-2007, Telephone: (310) 725-3615.

SUPPLEMENTARY INFORMATION: The Federal Aviation Administration (FAA) has completed and is publishing its Record of Decision for improvements identified in the Master Plan for Los Angeles International Airport (LAX). FAA had published its Final Environmental Impact Statement (EIS) for these Master Plan improvements and a Final General Conformity Determination on January 13, 2005. The Final EIS was prepared by the FAA pursuant to the National Environmental Policy Act of 1969 and assessed the potential impact of the Master Plan's four development alternatives (Alternatives A, B, C, and D), as well as the No Action Alternative where no improvements at the airport would be made. The FAA accepted comments on the Final EIS and these comments along with FAA responses are included in Appendix B to the ROD.

In the Final EIS, the FAA identified Alternative D as the preferred alternative in meeting the purpose and need for improvements at the airport. Under Alternative D, the two of the four runways would be shifted to improve runway and taxiway separation. The terminal complex will be reconfigured to enhance safety and security, and accommodate the future mix of forecast aircraft. Extensive changes will be made to the existing Central Terminal Area including relocation of the existing passenger curb front to a new Ground Transportation Center, to be developed east of the airport. Alternative D also includes construction of a new Intermodal Transportation Center, consolidated rental car facility and an automated people mover system connecting the airport's main facilities. Alternative D, as approved, includes all of the aviation and airport support improvements described in the Final EIS, including, but not limited to those identified above. However, FAA has taken no action on a non-aviation related collateral development project proposed under Alternative D known as LAX Northside.

Copies of the ROD are available for public review at the following locations during normal business hours:

U.S. Department of Transportation, Federal Aviation Administration, Western-Pacific Region, Office of the Airports Division, 15000 Aviation Boulevard, Hawthorne, California 90261

U.S. Department of Transportation, Federal Aviation Administration, National Headquarters, Community and Environmental Needs Division, 800 Independence Avenue, SW., Washington, DC 20591.

Administrative Offices of Los Angeles World Airports, One World Way, Los Angeles, California.

Copies of the ROD is also available at the following libraries:

County of Orange Public Library Admin. Headquarters, 1501 E. Saint Andrew Place, Santa Ana, CA 92701

County of Riverside Public Library, 3581 Mission Inn Avenue, Riverside, CA 92501

County of San Bernardino, 104 W. Fourth Street, San Bernardino, CA 92415

County of Ventura Public Library, 651 East Main Street, Ventura, CA 93001

City of Los Angeles Central Library, 630 W. Fifth Street, Los Angeles, CA 90071

Arroyo Seco Regional Branch Library, 6145 N. Figueroa Street, Los Angeles, CA 90042

Eagle Rock Library, 5027 Caspar Avenue, Los Angeles, CA 90041

Exposition Park Library, 3665 S. Vermont Avenue, Los Angeles, CA 90007

Frances Howard Goldwyn Library, 1623 N. Ivar Avenue, Hollywood, CA 90028

San Pedro Regional Branch Library, 931 S. Gaffey Street, San Pedro, CA 90731

Mar Vista Branch Library, 12006 Venice Blvd., Los Angeles, CA 90066

Mid-Valley Regional Branch Library, 16244 Nordhoff Street, North Hills, CA 91343

North Hollywood Regional Library, 5211 Tujunga Avenue, North Hollywood, CA 91601

Venice Abbott Kinney Library, 501 South Venice Blvd. Venice, CA 90291

Westchester Branch Library, 7114 W. Manchester Avenue, Los Angeles, CA 90045

West L.A. Regional Branch Library, 11360 Santa Monica Blvd., Los Angeles, CA 90025

West Valley Regional Branch Library, 19036 Vanowen Street, Reseda, CA 91335

Compton Library, 240 W. Compton Blvd., Compton, CA 90220

Carson Regional Library, 151 E. Carson Street, Carson, CA 90745

Claremont Library, 208 N. Harvard Avenue, Claremont, CA 91711

Culver City Library, 4975 Overland Avenue, Culver City, CA 90230

El Monte Library, 3224 Tyler Avenue, El Monte, CA 91731

El Segundo Public Library, 111 W. Mariposa Avenue, El Segundo, CA 90245

Hacienda Heights Library, 16010 La Monde Street, Hacienda Heights, CA 91745

Hawthorne Library, 12700 Grevillea Avenue, Hawthorne, CA 90250

Hermosa Beach Library, 550 Pier Avenue, Hermosa Beach, CA 90254

Inglewood Library, 101 W. Manchester Blvd., Inglewood, CA 90301

Lancaster Library, 601 West Lancaster Blvd., Lancaster, CA 93534

Lennox Library, 4359 Lennox Blvd., Lennox, CA 90304

Lomita Library, 24200 Narbonne Avenue, Lomita, CA 90717

Beverly Hills Library, Reference Desk, 444 N. Rexford Drive, Beverly Hills, CA 90210

Helen Miller Bailey Library, 1301 Avenida Cesar Chavez, Monterey Park, CA 91754

Gardena Main Library, 1731 W. Gardena Blvd., Gardena, CA 90247

Huntington Park Library, 6518 Miles Avenue, Huntington Park, CA 90255

Lawndale Library, 14615 Burin Avenue, Lawndale, CA 90260

Malibu Library, 23519 West Civic Center Way, Malibu, CA 90265

Manhattan Beach Library, 1320 Highland Avenue, Manhattan Beach, CA 90266

Lloyd Taber Marina Del Rey Library, 4533 Admiralty Way, Marina Del Rey, CA 90292

Montebello Library, 1550 West Beverly Blvd., Montebello, CA 90640

Mt. San Antonio College Library, 1100 N. Grand Avenue, Walnut, CA 91789

Palmdale Library, 700 E. Palmdale Blvd., Palmdale, CA 93550

Redondo Beach Library, 303 N. Pacific Coast Highway, Redondo Beach, CA 90277

San Dimas Library, 145 North Walnut Avenue, San Dimas, CA 91773

Santa Monica Library, 1324 Fifth Street, Santa Monica, CA 90401

Torrance Civic Center Library, 3301 Torrance Blvd., Torrance, CA 90503

View Park Library, 3854 West 54th Street, Los Angeles, CA 90043

West Hollywood Library, 715 N. San Vicente Blvd., West Hollywood, CA 90069

Willowbrook Library, 11838 Wilmington Avenue, Los Angeles, CA 90059

Wiseburn Library, 5335 West 135th Street, Hawthorne, CA 90250

Woodcrest Library, 1340 West 106th Street, Los Angeles, CA 90044

UCLA Young Research Library, 280 E. Charles Young Drive, Los Angeles, CA 90095

The ROD may also be viewed at FAA's Web site: http://www.faa.gov/arp/awp/index.cfm?nav=awp and the Los Angeles World Airports Web site: http://www.laxmasterplan.org.

Questions may be directed to the individual above under the heading FOR FURTHER INFORMATION CONTACT.

Issued in Hawthorne, California on May 20, 2005.
Mark A. McClardy,
Manager, Airports Division, Western-Pacific Region, AWP-600.

[FR Doc. 05-11330 Filed 6-7-05; 8:45 am]

BILLING CODE 4910-13-M